DEPARTMENT OF COMMERCE

National Oceanic and Atmospheric Administration

[I.D.032107C]

Marine Mammals; File No. 1100-1849

AGENCY: National Marine Fisheries Service (NMFS), National Oceanic and Atmospheric Administration (NOAA), Commerce.

ACTION: Notice; issuance of permit.

SUMMARY: Notice is hereby given that Shane Moore, Moore & Moore Films, Box 2980, 1203 Melody Creek Lane, Jackson, Wyoming 83001 has been issued a permit to conduct commercial/educational photography.

ADDRESSES: The permit and related documents are available for review upon written request or by appointment in the following office(s):

Permits, Conservation and Education Division, Office of Protected Resources, NMFS, 1315 East-West Highway, Room 13705, Silver Spring, MD 20910; phone (301) 713-2289; fax (301) 427-2521; and

Alaska Region, NMFS, P.O. Box 21668, Juneau, AK 99802-1668; phone (907) 586-7221; fax (907) 586-7249.

FOR FURTHER INFORMATION CONTACT: Carrie Hubard or Kate Swails, (301) 713-2289.

SUPPLEMENTARY INFORMATION: On July 19, 2006 notice was published in the Federal Register (71 FR 40995) that a request for a commercial/educational photography permit to take killer whales (Orcinus orca), gray whales (Eschrichtius robustus), and minke whales (Balaenoptera acutorostrata) had been submitted by the above-named individual. The requested permit has been issued under the authority of the Marine Mammal Protection Act of 1972, as amended (16 U.S.C. 1361 et seq.), the regulations governing the taking and importing of marine mammals (50 CFR part 216).

The applicant will take 10 killer whales of the Eastern North Pacific Transient stock, 10 gray whales, and 10 minke whales annually by close approach for filming in the Gulf of Alaska and Bering Sea. The purpose of this project is to document the behavior of marine animals in the presence of the carcass of a gray or minke whale that was killed by killer whales. The applicant will fix a remotely operated video camera in an underwater housing to the sea floor approximately 15 feet from the carcass. The camera will be deployed after the killer whales have left the carcass and would be controlled from a boat approximately 100 yards away. In addition, if killer whales, gray whales, or minke whales pass near the boat, the applicant will submerge a small camera on a pole to take photographs of passing animals. This footage will be shared freely with the scientific community as it may reveal to what extent killer whales continue to feed on submerged kills, how they feed on these carcasses, and document what other animals may benefit from these carcasses as well. Filming activities will occur between April 1 and August 31 of each year. The permit will expire three years from the date of issuance.

In compliance with the National Environmental Policy Act of 1969 (42 U.S.C. 4321 et seq.), a final determination has been made that the activity proposed is categorically excluded from the requirement to prepare an environmental assessment or environmental impact statement.

Dated: March 23, 2007.
P. Michael Payne,
Chief, Permits, Conservation and Education Division, Office of Protected Resources, National Marine Fisheries Service.

[FR Doc. E7-5680 Filed 3-27-07; 8:45 am]

BILLING CODE 3510-22-S